DEPARTMENT OF AGRICULTURE

Forest Service

Newspapers Used for Publication of Legal Notices by the Malheur National Forest, Pacific Northwest Region, Oregon

AGENCY: Forest Service, Agriculture (USDA).

ACTION: Notice of newspapers of record.

SUMMARY: This notice updates the newspapers that will be used by the Malheur National Forest of the Pacific Northwest Region to publish legal notices required under the Code of Federal Regulations (CFR). The newspaper of record for Malheur National Forest Supervisor, Blue Mountain District Ranger, and Prairie City District Ranger decisions will be changed from the Blue Mountain Eagle to the East Oregonian. The intended effect of this action is to inform interested members of the public which newspaper the Forest Service will use to publish notices of proposed actions and notices of decision. This will provide the public with constructive notice of Forest Service proposals and decisions, provide information on the procedures to comment, object or appeal, and establish the date that the Forest Service will use to determine if comments or appeals/objections were timely.

DATES: The list of newspapers will remain in effect for one year from the date of publication, when another notice will be published in the Federal Register.

ADDRESSES: Sasha Bertel, Regional Environmental Coordinator, Pacific Northwest Region, 1220 Southwest Third Avenue, Portland, Oregon 97204.

FOR FURTHER INFORMATION CONTACT: Laurie Montgomery, Forest Environmental Coordinator, Malheur National Forest, by email at laurie.montgomery@usda.gov or by phone at 541-820-3800.

SUPPLEMENTARY INFORMATION: The administrative procedures at 36 CFR 214, 218, and 219 require the Forest Service to publish notices in a newspaper of general circulation. The content of the notices is specified in 36 CFR 214, 218, and 219. In general, the notices will identify the decision or project, by title or subject matter; the name and title of the official making the decision; how to obtain additional information; and where and how to file comments or appeals/objections. The date the notice is published will be used to establish the official date for the beginning of the comment or appeal/objection period. The newspapers to be used are as follows:

Malheur National Forest

Malheur National Forest Supervisor, Blue Mountain District Ranger, and Prairie City District Ranger decisions: East Oregonian.

Emigrant Creek District Ranger decisions: Burns Times Herald.

Dated: August 13, 2024.
Jacqueline Emanuel,
Associate Deputy Chief, National Forest System.

[FR Doc. 2024-18405 Filed 8-15-24; 8:45 am]

BILLING CODE 3411-15-P